DEPARTMENT OF THE INTERIOR

National Park Service

Rim of the Valley Corridor Special Resource Study, Los Angeles and Ventura Counties, CA; Notice of Scoping

Summary: Notice is hereby given in accordance with provisions of the National Environmental Policy Act of 1969 (Pub. L. 91-190) and the Council on Environmental Quality's implementing regulations (40 CFR 1502.9(c)) that public scoping has been initiated for a conservation planning and environmental impact analysis process to identify and assess potential impacts of alternative resource protection and other considerations within the Rim of the Valley Corridor Special Resource Study area in Los Angeles and Ventura counties of California. The purpose of the scoping process is to elicit early public comment regarding issues and concerns, alternatives, and the nature and extent of potential environmental impacts (and as appropriate, mitigation measures) which should be addressed.

Background: As authorized by the Consolidated Natural Resources Act of 2008 (Pub. L. 110-229-May 2008), the National Park Service (NPS) is conducting a special resource study of the area known as the Rim of the Valley Corridor, generally including the mountains encircling the San Fernando, La Crescenta, Santa Clarita, Simi, and Conejo Valleys in California. The study area also includes the majority of the existing Santa Monica Mountains National Recreation Area. The study will explore many issues including: Protection of wildlife habitat and linkages between open space areas; completion of the Rim of the Valley Trail system; preserving recreational opportunities and facilitating access to recreation for a variety of users; protection of rare, threatened or endangered species and rare or unusual plant communities and habitats; and identifying the needs of communities within and around the study area.

In conducting the Rim of the Valley Corridor Special Resource Study, the NPS will evaluate the national significance of the area's natural and cultural resources. The NPS will also assess the area's suitability and feasibility to be a unit of the National Park System. Factors which the NPS study team will evaluate include: Whether the study area includes types or quality of resources not already adequately represented in the National Park System; whether long-term protection and public use of the area are feasible; and whether the area can be adequately protected and administered at a reasonable cost. The recommendations of the NPS may vary for different portions of the study area.

The authorizing statute directs the NPS to determine the suitability and feasibility of designating all or a portion of the corridor as a unit of the Santa Monica Mountains National Recreation Area. It also directs the NPS to determine the methods and means for the protection and interpretation of this corridor by the NPS, other Federal, State, or local government entities or private or non-profit organizations.

The NPS will also consider: Alternative strategies for management, protection and use of significant resources within the overall study area, including management by other public agencies or the private sector; technical or financial assistance available from established programs or special initiatives and partnerships; alternative designations other than a national park, or as an expansion unit of Santa Monica Mountains National Recreation Area; and cooperative management by NPS and other entities.

Public Engagement: During the study process, a range of alternatives will be developed in consultation with Federal, State and local governments and interested members of the public, groups, and organizations. The NPS will conduct an environmental review of the alternatives and potential consequences of resource protection considerations as part of the Rim of the Valley Corridor Special Resource Study. At this time, it has not been determined whether an Environmental Assessment or an Environmental Impact Statement will be prepared, however, this scoping process will aid in the preparation of either document. The public will have several opportunities to comment and participate throughout the study process. Additionally, the public will be afforded the opportunity to review and comment on the ensuing environmental document following its release. For initial scoping and alternatives development, the most useful comments are those that provide the NPS with assistance in identifying issues and concerns which should be addressed, or providing important information germane to this study. All responses to this Notice will also be used to establish a mailing list of interested persons, organizations, and agencies that desire to receive further information as the environmental document is developed.

The public scoping period for the Rim of the Valley Corridor Special Resource Study will conclude—and all comments must be postmarked or transmitted no later than—October 29, 2010. Interested individuals, organizations, and agencies wishing to provide written comments on issues or concerns should respond to: National Park Service, Rim of the Valley Corridor Special Resource Study, 570 West Avenue 26, Suite 175, Los Angeles, CA 90065. Comments may also be transmitted through the study's Web site listed below.

Before including your address, phone number, e-mail address, or other personal identifying information in your comment, you should be aware that your entire comment—including your personal identifying information—may be made publicly available at any time. While you can ask us in your comment to withhold your personal identifying information from public review, we cannot guarantee that we will be able to do so.

At this time the following scoping meetings (public workshops) have been scheduled: September 14 in Chatsworth, September 15 in Los Angeles, September 21 in Santa Clarita, September 22 in Thousand Oaks, October 4 in Calabasas, October 5 in Tujunga, and October 6 in Altadena. Complete details of dates, times and locations of the meetings will be posted on the project Web site (noted below). Complete information will also be conveyed to local and regional press media, and will be advertised in a newsletter which will be distributed to stakeholders and interested parties.

Information updates about the study process and opportunities for the public to participate will be distributed via direct mailings, regional and local news media and the Rim of the Valley Corridor Special Resource Study Web site (http://www.nps.gov/pwro/rimofthevalley). The study team may also be contacted via e-mail at pwr_rimofthevalley@nps.gov.

Further Information: Availability of the forthcoming draft environmental document for review and written comment will be announced by local and regional news media, the above listed Web site, and direct mailing. At this time the draft environmental review document is anticipated to be available for public review and comment in 2013 and the draft and final report to Congress available in 2014. Comments on the draft document will be fully considered and responded to as appropriate in the final document. The official responsible for the initial recommendation will be the Regional Director, Pacific West Region, National Park Service. The official responsible for amending or ratifying the recommendation and transmitting the final document to the Secretary of the Interior will be the Director of the National Park Service. The final document will identify the alternative that, in the professional judgment of the Director of the National Park Service, is the most effective and efficient method for protecting significant resources and providing for public enjoyment. The Secretary of the Interior subsequently will forward the completed study along with a recommendation regarding the Secretary's preferred management option for the area to Congress for their consideration. It is anticipated that the final study report will be available in 2014.

Dated: July 30, 2010.
George J. Turnbull,
Acting Regional Director, Pacific West Region.

[FR Doc. 2010-21551 Filed 8-27-10; 8:45 am]

BILLING CODE 4312-52-P